DEPARTMENT OF HOMELAND SECURITY

Coast Guard

[Docket No. USCG-2018-0801]

Certificate of Alternative Compliance for the TUG JUDY MORAN Hull 123

AGENCY: Coast Guard, DHS.

ACTION: Notification of issuance of a certificate of alternative compliance.

SUMMARY: The Coast Guard announces that the U. S. Coast Guard First District Prevention Division has issued a certificate of alternative compliance from the International Regulations for Preventing Collisions at Sea, 1972 (72 COLREGS), for the TUG JUDY MORAN, Hull 123. We are issuing this notice because its publication is required by statute. Due to the construction and placement of the vessel's side lights and stern lights, TUG JUDY MORAN cannot fully comply with the light, shape, or sound signal provisions of the 72 COLREGS without interfering with the vessel's design and construction. This notification of issuance of a certificate of alternative compliance promotes the Coast Guard's marine safety mission.

DATES: The Certificate of Alternative Compliance was issued on 26 July, 2018.

FOR FURTHER INFORMATION CONTACT: For information or questions about this notice call or email Mr. Kevin Miller, First District Towing Vessel/Barge Safety Specialist, U.S. Coast Guard; telephone (617) 223-8272, email Kevin.L.Miller2@uscg.mil.

SUPPLEMENTARY INFORMATION:

The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The First District Prevention Department, U.S. Coast Guard, certifies that the TUG JUDY MORAN, Washburn & Doughty Hull 123, is a vessel of special construction or purpose, and that, with respect to the position of the vessels side lights, it is not possible to comply fully with the requirements of the provisions enumerated in the 72 COLREGS, without interfering with the normal operation, construction, or design of the vessel. The First District Prevention Division further finds and certifies that the vessel's sidelights (13′ 5″ from the vessel's side mounted on the pilot house) and the vessel's stern light and towing lights (3′ 6″ aft of frame 20) are in the closet possible compliance with the applicable provisions of the 72 COLREGS.⁵

⁵ 33 U.S.C. 1605(a); 33 CFR 81.9.

This notice is issued under authority of 33 U.S.C. 1605(c) and 33 CFR 81.18.

Dated: September 11, 2018.
Richard J. Schultz,
Captain, U.S. Coast Guard, Chief, Prevention Division, First Coast Guard District.

[FR Doc. 2018-20049 Filed 9-13-18; 8:45 am]

BILLING CODE 9110-04-P